DEPARTMENT OF HEALTH AND HUMAN SERVICES

Agency for Healthcare Research and Quality

Meeting for Software Developers on the Common Formats for Patient Safety Data Collection

AGENCY: Agency for Healthcare Research and Quality (AHRQ), Department of Health and Human Services (HHS).

ACTION: Notice of meeting.

SUMMARY: The purpose of this notice is to announce a meeting to discuss implementation of the Common Formats with software developers and other interested parties. This meeting is designed as an interactive forum where software developers can provide input on use of the formats. AHRQ especially requests participation by and input from those entities which have used AHRQ's technical specifications and implemented, or plan to implement, the Common Formats electronically.

DATES: The meeting will be held from 1:00 to 2:30 p.m. Eastern on Thursday, March 31st, 2022.

ADDRESSES: The meeting will be held virtually.

FOR FURTHER INFORMATION CONTACT: Dr. Hamid Jalal, Medical Officer, Center for Quality Improvement and Patient Safety, AHRQ, 5600 Fishers Lane, Rockville, MD 20857; Telephone (toll free): (866) 403-3697; Telephone (local): (301) 427-1111; TTY (toll free): (866) 438-7231; TTY (local): (301) 427-1130; Email: pso@ahrq.hhs.gov.

SUPPLEMENTARY INFORMATION: AHRQ coordinates the development of sets of standardized definitions and formats (Common Formats) that make it possible to collect, aggregate, and analyze uniformly structured information about health care quality and patient safety for local, regional, and national learning. The Common Formats include technical specifications to facilitate the collection of electronically comparable data by Patient Safety Organizations (PSOs) and other entities. Additional information about the Common Formats can be obtained through AHRQ's PSO website at https://pso.ahrq.gov/common-formats and the PSO Privacy Protection Center's website at https://www.psoppc.org/psoppc_web/publicpages/commonFormatsOverview.

Background

The Patient Safety and Quality Improvement Act of 2005, 42 U.S.C. 299b-21 to 299b-26 (Patient Safety Act), and the related Patient Safety and Quality Improvement Final Rule, 42 CFR part 3 (Patient Safety Rule), published in the Federal Register on November 21, 2008, 73 FR 70731-70814, provide for the Federal listing of Patient Safety Organizations (PSOs), which collect, aggregate, and analyze confidential information (patient safety work product) regarding the quality and safety of health care delivery.

The Patient Safety Act requires PSOs, to the extent practical and appropriate, to collect patient safety work product from providers in a standardized manner that permits valid comparisons of similar cases among similar providers. (42 U.S.C. 299b-24(b)(1)(F)). The Patient Safety Act also authorizes the development of data standards, known as the Common Formats, to facilitate the aggregation and analysis of non-identifiable patient safety data collected by PSOs and reported to the network of patient safety databases (NPSD). (42 U.S.C. 299b-23(b)). The Patient Safety Act and Patient Safety Rule can be accessed at: http://www.pso.ahrq.gov/legislation/.

AHRQ has issued Common Formats for Event Reporting for three settings of care—hospitals, nursing homes, and community pharmacies. As part of the agency's efforts to improve diagnostic safety and quality in healthcare, AHRQ is in the process of developing Common Formats for Event Reporting—Diagnostic Safety (CFER-DS).

Federally listed PSOs can meet the requirement to collect patient safety work product in a standardized manner to the extent practical and appropriate by using AHRQ's Common Formats. The Common Formats are also available in the public domain to encourage their widespread adoption. An entity does not need to be listed as a PSO or working with one to use the Common Formats. However, the Federal privilege and confidentiality protections only apply to information developed as patient safety work product by providers and PSOs working under the Patient Safety Act.

Agenda, Registration, and Other Information About the Meeting

The March 31 meeting will be an interactive forum designed to allow meeting participants not only to provide input but also to respond to the input provided by others. To encourage stakeholder feedback, this meeting will feature a panel of representatives from two PSOs who will share insights from their experiences and challenges with incorporating Common Formats into the work of their PSOs and reporting providers. Sheila Rossi will represent the ECRI and ISMP PSO and Mike Personett will represent the Press Ganey PSO on the panel. Time will be allocated during the panel presentation to engage meeting participants and foster active discussion. AHRQ requests that interested persons send an email to SDMeetings@infinityconferences.com for registration information. Before the meeting, an agenda and logistical information will be provided to registrants.

Dated: March 14, 2022.
Marquita Cullom,
Associate Director.

[FR Doc. 2022-05731 Filed 3-17-22; 8:45 am]

BILLING CODE 4160-90-P